NATIONAL AERONAUTICS AND SPACE ADMINISTRATION

[Notice 13-024]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: April 2, 2013.

FOR FURTHER INFORMATION CONTACT: Robert M. Padilla, Patent Counsel, Ames Research Center, Code 202A-4, Moffett Field, CA 94035-1000; telephone (650) 604-5104; fax (650) 604-2767.

NASA Case No.: ARC-16644-1: Variable Camber Continuous Aerodynamic Control Surfaces and Methods for Active Wing Shaping Control;

NASA Case No.: ARC-16846-1: Dynamic Weather Routes Tool;

NASA Case No.: ARC 16902-1: Nanosensors for Medical Diagnosis;

NASA Case No.: ARC 16942-2: A New Family of Low Density Flexible Ablators;

NASA Case No.: ARC 16450-1CIP: Distributed Prognostics and Health Management with a Wireless Network Architecture;

NASA Case No.: ARC 16607-1: An Approach to Make Flexible Ablators that are Flexible Char Formers;

NASA Case No.: ARC 16340-1: Method for Formation and Manufacture of Carbon Nanotube Mesh Bucky Paper Capsules for Transplantation of Cells and Tissue and Implantation of Medical Devices;

NASA Case No.: ARC 16844-1: Adaptive Control and Disturbance Rejection of Non-Minimum Phase Plants Using Residual Mode Filters.

Sumara M. Thompson-King,
Deputy General Counsel.

[FR Doc. 2013-07607 Filed 4-1-13; 8:45 am]

BILLING CODE 7510-13-P